DEPARTMENT OF THE INTERIOR

Bureau of Land Management

[BAC 4331-11]

Call for Nominations to the Idaho Resource Advisory Council

AGENCY: Bureau of Land Management, Interior.

ACTION: Notice.

SUMMARY: The purpose of this notice is to request nominations to fill vacant positions or the positions of members whose terms are scheduled to expire for the Bureau of Land Management's (BLM) Idaho Resource Advisory Council (RAC). The RAC advises the Secretary of the Interior on the issues related to land use, planning, and the management of resources on BLM land in the State of Idaho.

DATES: All nominations must be received no later than January 21, 2022.

ADDRESSES: Nominations and completed applications should be sent to the BLM office listed in the FOR FURTHER INFORMATION CONTACT section of this notice.

FOR FURTHER INFORMATION CONTACT: MJ Byrne, 1387 South Vinnell Way, Boise, Idaho 83709; (208) 373-4006; mbyrne@blm.gov. Persons who use a telecommunications device for the deaf (TDD) may call the Federal Relay Service (FRS) at (800) 877-8339 to contact Ms. Byrne during normal business hours. The FRS is available 24 hours a day, 7 days a week, to leave a message or question. You will receive a reply during normal business hours.

SUPPLEMENTARY INFORMATION: The Federal Land Policy and Management Act (FLPMA) directs the Secretary of the Interior to involve the public in management planning for lands administered by the BLM through the establishment of citizen-based advisory councils that are consistent with the Federal Advisory Committee Act (FACA). RAC membership is balanced and representative of the various interests concerned with the management of the public lands. The rules governing RACs are found at 43 CFR subpart 1784. The RACs include the following three membership categories:

Category One—Holders of Federal grazing permits or leases within the area for which the RAC is organized; representatives of interests associated with transportation or rights-of-way; representatives for developed outdoor recreation, off-highway vehicle users, or commercial recreation activities; representatives of the commercial timber industry; or representatives of energy and mineral development.

Category Two—Representatives of nationally or regionally recognized environmental organizations; representatives of dispersed recreational activities; representatives of archaeological and historical interests; or representatives of nationally or regionally recognized wild horse and burro interest groups.

Category Three—Individuals holding elected office withing the state, county, or local government; employees of a state agency responsible for the management of natural resources; representatives of Indian Tribes within or adjacent to the area for which the RAC is organized; academicians in natural resource management or the natural sciences; and representatives of the public-at-large.

Individuals may nominate themselves or others. Nominees must be residents of the state of Idaho. The BLM will evaluate nominees based on their education, training, experience, and knowledge of the geographic area of the RAC. Nominees should demonstrate a commitment to collaborative resource decision-making.

The following must accompany all nominations:

—A completed RAC application, which can either be obtained through your local BLM office or online at: https://www.blm.gov/sites/blm.gov/files/1120-019_0.pdf

—Letters of reference from represented interests or organizations; and

—Any other information that addresses the nominee's qualifications.

Simultaneous with this notice, BLM state offices will issue press releases providing additional information for submitting nominations.

Before including any address, phone number, email address, or other personal identifying information in the application, nominees should be aware this information may be made publicly available at any time. While the nominee can ask to withhold the personal identifying information from public review, the BLM cannot guarantee that it will be able to do so.

Authority: 43 CFR 1784.4-1

Peter J. Ditton,
Acting Idaho State Director.

[FR Doc. 2021-27744 Filed 12-21-21; 8:45 am]

BILLING CODE 4310-GG-P